DEPARTMENT OF TRANSPORTATION

Federal Aviation Administration

14 CFR Part 39

[Docket No. FAA-2005-22033; Directorate Identifier 2004-NM-218-AD; Amendment 39-14391; AD 2005-24-11]

RIN 2120-AA64

Airworthiness Directives; Empresa Brasileira de Aeronautica S.A. (EMBRAER) Model EMB-135 Airplanes and Model EMB-145, -145ER, -145MR, -145LR, -145XR, -145MP, and -145EP Airplanes

AGENCY: Federal Aviation Administration (FAA), Department of Transportation (DOT).

ACTION: Final rule; correction.

SUMMARY: The FAA is correcting a typographical error in an existing airworthiness directive (AD) that was published in the Federal Register on December 5, 2005 (70 FR 72363). The error resulted in the citation of incorrect part numbers. This AD applies to certain EMBRAER Model EMB-135 airplanes and Model EMB-145, -145ER, -145MR, -145LR, -145XR, -145MP, and -145EP airplanes. This AD requires repetitive inspections of the spring cartridges of the elevator gust lock system to determine if the lock washer projection correctly fits the slots in the cartridge flange, and corrective action if necessary, for certain airplanes. This AD also requires final terminating action for all affected airplanes.

DATES: Effective January 9, 2006.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., Room PL-401, Washington, DC. This docket number is FAA-2005-22033; the directorate identifier for this docket is 2004-NM-218-AD.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION: On November 18, 2005, the FAA issued AD 2005-24-11, amendment 39-14391 (70 FR 72363, December 5, 2005), for certain EMBRAER Model EMB-135BJ, -135ER, -135KE, -135KL, and -135LR airplanes; and Model EMB-145, -145ER, -145MR, -145LR, -145XR, -145MP, and -145EP airplanes. That AD requires repetitive inspections of the spring cartridges of the elevator gust lock system to determine if the lock washer projection correctly fits the slots in the cartridge flange, and corrective action if necessary. That AD also requires final terminating action for all affected airplanes.

On December 23, 2005, we issued a correction to AD 2005-24-11, (71 FR 231, January 4, 2006), which corrected the reference to the effective date of Brazilian airworthiness directive 2003-01-03R1.

As published, AD 2005-24-11 incorrectly cited the part numbers (P/Ns) of the spring cartridges in several places as P/N KDP2611 and P/N KDP4235. Those P/Ns do not exist. The correct P/Ns should be KPD2611 and KPD4235.

No other part of the regulatory information has been changed; therefore, the final rule is not republished in the Federal Register.

The effective date of this AD remains January 9, 2006.

§ 39.13 [Corrected]

In the Federal Register of December 5, 2005, on page 72365, paragraph (f) in the first column, paragraph (g) in the second column, and paragraph (h) in the third column of AD 2005-24-11 are corrected to read as follows:

* * * * *

(f) For Model EMB-135BJ airplanes: Within 30 days after May 14, 2003 (the effective date of AD 2003-09-03), perform a general visual inspection of each spring cartridge of the elevator gust lock system to determine if the lock washer projection correctly fits the slots in the cartridge flange, in accordance with EMBRAER Service Bulletin 145LEG-27-0006, dated December 9, 2002; Revision 01, dated June 3, 2003; or Revision 02, dated April 12, 2004. Before further flight, replace any discrepant spring cartridge with a new part having the same part number, in accordance with the service bulletin; or replace the spring cartridge, part number (P/N) KPD2611, with a new, improved spring cartridge, P/N KPD4235, as specified in paragraph (h) of this AD. * * *

* * * * *

(g) For airplanes not identified in paragraph (f) of this AD: At the applicable time specified in paragraph (g)(1) or (g)(2) of this AD, perform a general visual inspection of each spring cartridge of the elevator gust lock system to determine if the lock washer projection correctly fits the slots in the cartridge flange, in accordance with EMBRAER Service Bulletin 145-27-0098, dated December 9, 2002; Change 01, dated June 3, 2003; or Revision 02, dated April 12, 2004. Repeat the inspection at intervals not to exceed 800 flight hours after the initial inspection until the replacement of the spring cartridge, P/N KPD2611, with a new, improved spring cartridge, P/N KPD4235, is done as specified in paragraph (h) of this AD. * * *

* * * * *

New Requirements of This AD

Replacement of Spring Cartridge

(h) Within 5,500 flight hours or 36 months after the effective date of this AD, whichever comes first, replace the spring cartridge, P/N KPD2611, with a new, improved spring cartridge, P/N KPD4235, in accordance with the Accomplishment Instructions of EMBRAER Service Bulletin 145LEG-27-0012, Revision 01, dated April 12, 2004 (for Model EMB-135BJ airplanes); or EMBRAER Service Bulletin 145-27-0102, Revision 02, dated January 20, 2005 (for Model EMB-135ER, -135KE, -135KL, -135LR, -145, -145ER, -145MR, -145LR, -145XR, -145MP, and -145EP airplanes); as applicable. * * *

* * * * *

Issued in Renton, Washington, on August 18, 2006.
Kalene C. Yanamura,
Acting Manager, Transport Airplane Directorate, Aircraft Certification Service.

[FR Doc. E6-14687 Filed 9-5-06; 8:45 am]

BILLING CODE 4910-13-P